DEPARTMENT OF AGRICULTURE

Submission for OMB Review; Comment Request

March 10, 2005.

The Department of Agriculture has submitted the following information collection requirement(s) to OMB for review and clearance under the Paperwork Reduction Act of 1995, Pub. L. 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Risk Management Agency

Title: Organic Apple Production Survey in Pacific Northwest.

OMB Control Number: 0563-NEW.

Summary of Collection: The Risk Management Agency (RMA) is responsible for promoting, supporting, and regulating a broad array of market-based, risk management programs for agricultural producers. In legislation enacted in 2000 and 2002, Congress authorized and directed the agency to “increase participation by producers of underserved agricultural commodities, including specialty crops” and to “enter into contracts to carry out research and development” to achieve this end.

Need and Use of the Information: The main user of the data from the survey will be RMA in the development of appropriate risk management tools for the specialty crop producer as mandated by the Agricultural Risk Protection Act. The survey will enable the research partnership of RMA and the universities to develop a risk management profile of organic apple producers. An example of the analysis to be developed would be the projection of insurance demand under a variety of premium and indemnity calculations. In depth analysis of the survey results will provide guidance in the design of insurance programs.

Description of Respondents: Farms; Business or other for-profit.

Number of Respondents: 149.

Frequency of Responses: Reporting: Other (One time).

Total Burden Hours: 57.

Risk Management Agency

Title: Survey on Risk Issues for Organic Grain Farmers.

OMB Control Number: 0563-NEW.

Summary of Collection: The Risk Management Agency is responsible for promoting, supporting, and regulating a broad array of market-based, risk management programs for agricultural producers. In legislation enacted in 2000 and 2002, Congress authorized and directed the agency to “increase participation by producers of underserved agricultural commodities, including specialty crops” and to “enter into contracts to carry out research and development” to achieve this end.

Need and Use of the Information: The main user of the data from the survey will be the Risk Management Agency (RMA) in the development of appropriate risk management tools for organic grain producers. The survey will enable the research partnership of RMA and Kansas State University to develop a risk management profile of organic grain producers. An example of the analysis to be developed would be the projection of premiums for organic grains and net income projections under various market conditions and risk management strategies. In-depth analysis of the survey results will provide guidance in the design of risk management tools tailored for the use of organic grain producers.

Description of Respondents: Farms; Business or other for-profit.

Number of Respondents: 1,500.

Frequency of Responses: Reporting: Other (One time).

Total Burden Hours: 625.

Risk Management Agency

Title: Organic Handler Survey.

OMB Control Number: 0563-NEW.

Summary of Collection: The Risk Management Agency is responsible for promoting, supporting, and regulating a broad array of market-based, risk management programs for agricultural producers. In legislation enacted in 2000 and 2002, Congress authorized and directed the agency to “increase participation by producers of underserved agricultural commodities, including specialty crops” and to “enter into contracts to carry out research and development” to achieve this end.

Need and Use of the Information: The price and marketing information will improve the efficiency of farmers' production and marketing decisions. The research will reveal how the industry is coping with market risks and growth, will demonstrate different marketing options available to farmers, and determine the extent to which organic farmers are using specific risk-management tools traditionally used by conventional producers, such as contracts. The educational tool will provide farmers with information about risk-management strategies, marketing arrangements, and marketing channels for specific commodities. Certified organic farmers and those considering transitioning to organic farming will find this information useful in improving the efficiency of production and marketing decisions.

Description of Respondents: Farms; Business or other for-profit.

Number of Respondents: 2,000.

Frequency of Responses: Reporting: Other (One time).

Total Burden Hours: 1,100.

Risk Management Agency

Title: Organic Price Index Project.

OMB Control Number: 0563-NEW.

Summary of Collection: The Risk Management Agency is responsible for promoting, supporting, and regulating a broad array of market-based, risk management programs for agricultural producers. In legislation enacted in 2000 and 2002, Congress authorized and directed the agency to “increase participation by producers of underserved agricultural commodities, including specialty crops” and to “enter into contracts to carry out research and development” to achieve this end.

Need and Use of the Information: Since early 2003, the Rodale Institute has posted prices for around 40 organic products in a file called the “Organic Price Index”. The prices have been collected from wholesale distributors, sales agencies, and cooperatives that specialize in the marketing of organic products. Fruit and vegetable prices have been collected from organic wholesalers operating in the vicinity of the Seattle and Boston wholesale produce markets. Prices of identical conventional products reported by Agricultural Marketing Service in these markets are also posted for comparison. As part of this project, prices will be collected for a wider array of organic products and in 13 additional market areas.

Description of Respondents: Farms; Business or other for-profit.

Number of Respondents: 60.

Frequency of Responses: Reporting: On occasion.

Total Burden Hours: 53.

Ruth Brown,
Departmental Information Clearance Officer.

[FR Doc. 05-5054 Filed 3-14-05; 8:45 am]

BILLING CODE 3410-08-P